ENVIRONMENTAL PROTECTION AGENCY

[FRL-6898-5]

Notice of Proposed De Minimis Administrative Order on Consent Pursuant to Section 122(g) of the Comprehensive Environmental Response, Compensation and Liability Act of 1980 (CERCLA), as amended, 42 U.S.C. 9622(g), PCB Treatment Inc., Superfund Site, Kansas City, KS, and Kansas City, MO, Docket No. CERCLA 7-2000-0030

AGENCY: Environmental Protection Agency.

ACTION: Notice of Proposed De Minimis Administrative Order on Consent, PCB Treatment, Inc., 2100 Wyandotte Street, Kansas City, Missouri; and 45 Ewing Street, Kansas City, Kansas.

SUMMARY: Notice is hereby given that a proposed administrative order on consent regarding the PCB Treatment Inc. Superfund Site was signed by the United States Environmental Protection Agency (EPA) on September 29, 2000 and approved by the United States Department of Justice (DOJ) on October 2, 2000.

DATES: EPA will receive comments on or before December 15, 2000, related to the proposed agreement and covenant not to sue.

ADDRESSES: Comments should be addressed to Audrey Asher, Senior Assistant Regional Counsel, United States Environmental Protection Agency, Region VII, 901 N. 5th Street, Kansas City, Kansas 66101, and should refer to the PCB Treatment Inc. Superfund Site Administrative Order on Consent, EPA Docket No. CERCLA 7-2000-0030.

The proposed agreement may be examined or obtained in person or by mail at the office of the United States Environmental Protection Agency, Region VII, 901 N. 5th Street, Kansas City, Kansas 66101, (913) 551-7255.

SUPPLEMENTARY INFORMATION: The proposed agreement concerns the PCB Treatment Inc. Superfund Site (“Site”), located at 2100 Wyandotte Street, Kansas City, Missouri and 45 Ewing Street, Kansas City, Kansas. The Site was the location of treatment and storage facilities for materials and equipment containing polychlorinated biphenyls (“PCBs”). PCBs have been found in the concrete of the Ewing building at levels exceeding 15,000 micrograms per kilogram (mg/kg), and in the concrete of the Wyandotte building at levels exceeding 19,700 mg/kg.

As of July 31, 2000, EPA had incurred costs in excess of $1.3 million exclusive of interest. Each of the proposed settlors arranged with PCB Treatment Inc. for disposal of transformers, capacitors, oil, materials or equipment contaminated with PCBs.

EPA has determined that any party who arranged for disposal of transformers, capacitors, oil, materials, or equipment contaminated with PCBs weighting between 630 and 2,760 pounds (in allocated weight) contributed a de minimis volume of waste to the Site and that such wastes are not more toxic than any other hazardous substance at the Site.

Each settlor will pay a share of costs based on its volumetric share of capacitor weight compared to all capacitor weight with an additional premium of 100%.

Through this settlement EPA will recover over $66,000, and will seek remaining costs from other potentially responsible parties at the Site.

Dated: October 19, 2000.
Dennis Grams,
Regional Administrator, Region VII.

[FR Doc. 00-28712 Filed 11-8-00; 8:45 am]

BILLING CODE 6560-50-M